DEPARTMENT OF LABOR

Employment and Training Administration

[TA-W-58,817]

Fisher Controls, Pawcatuck, CT; Notice of Termination of Investigation

Pursuant to Section 221 of the Trade Act of 1974, as amended, an investigation was initiated on February 9, 2006 in response to a worker petition filed by an authorized representative on behalf of workers of Fisher Controls, Pawcatuck, Connecticut.

The petitioner has requested that the petition be withdrawn. Consequently, the investigation has been terminated.

Signed at Washington, DC this 24th day of March 2006.
Linda G. Poole,
Certifying Officer, Division of Trade Adjustment Assistance.

[FR Doc. E6-5370 Filed 4-11-06; 8:45 am]

BILLING CODE 4510-30-P